DEPARTMENT OF HOMELAND SECURITY

Coast Guard

DEPARTMENT OF TRANSPORTATION

Maritime Administration

[USCG-2004-16860]

Gulf Landing LLC Liquefied Natural Gas Deepwater Port License Application; Preparation of Environmental Impact Statement

AGENCY: Coast Guard, DHS; and Maritime Administration, DOT.

ACTION: Notice of intent; notice of public meeting; and request for public comments.

SUMMARY: The U.S. Coast Guard and the Maritime Administration (MARAD) announce their intent to prepare an environmental impact statement (EIS), and hold a public meeting/informational open house to discuss issues to be addressed in the EIS, for the project described in the Gulf Landing LLC Deepwater Port License Application. The plan description in the license application calls for construction of a liquefied natural gas (LNG) Deepwater Port known as “Gulf Landing”, associated anchorages, and pipeline connections in the Gulf of Mexico, approximately 38 miles south of Cameron Parish, Louisiana, located in 55 feet of water in Outer Continental Shelf (OCS) Block West Cameron 213. The Coast Guard seeks public and agency input on the scope of the EIS. Specifically, the Coast Guard requests input on any environmental concerns that the public may have related to the proposal to construct a new Deepwater Port, sources of relevant data or information, and any suggested analysis methods for inclusion in the EIS.

DATES: The public meeting will be held March 16, 2004, from 1 p.m. to 5 p.m., in Lafayette, LA. Comments and related material must reach the Docket on or before April 15, 2004.

ADDRESSES: The public meeting/open house location is: Marriott Courtyard, 214 East Kaliste Saloon Road, Lafayette, LA 70508, phone number (337) 232-5005.

You may submit comments identified by Coast Guard docket number USCG-2004-16860 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

The Docket Management Facility maintains the public docket for this notice. Comments will become part of this docket and will be available for inspection or copying in Room PL-401, located on the Plaza Level of the Nassif Building at the above address between 9 a.m. and 5 p.m., Monday through Friday, except for Federal holidays. You may also view this docket, including this notice and comments, on the Internet at http://dms.dot.gov.

FOR FURTHER INFORMATION CONTACT: If you have questions on this notice, the project, or the meeting, call Lieutenant Derek Dostie at 202-267-0626, or email at ddostie@comdt.uscg.mil. If you have questions on viewing or submitting material to the docket, call Andrea M. Jenkins, Program Manager, Docket Operations, telephone 202-366-0271.

SUPPLEMENTARY INFORMATION:

Submitting Comments

You may submit comments and related materials on this notice, the public meeting, or concerning the application. Persons submitting comments should include their names and addresses, the docket number (USCG-2004-16860), and the reasons for each comment. You may submit your comments and materials by mail, hand delivery, fax, or electronic means to the Docket Management Facility at the address given under ADDRESSES; but please submit your comments and materials by only one means. If you choose to submit them by mail or hand delivery, submit them in an unbound format, no larger than 8½ by 11 inches, and suitable for copying and electronic filing. If you submit them by mail and would like to know if they reach the facility, please enclose a stamped, self-addressed postcard or envelope. We will consider all comments and materials received during the comment period. All comments received will be posted, without change, to http://dms.dot.gov and will include any personal information you have provided. We have an agreement with the Department of Transportation (DOT) to use their Docket Management Facility. Please see DOT's “Privacy Act” paragraph below.

Viewing Comments and Documents

To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background Information

On November 3, 2003, the Coast Guard and MARAD received an application from Gulf Landing LLC (“Gulf Landing”), 1301 McKinney, Suite 700, Houston, Texas 77010 for all federal authorizations required for a license to own, construct and operate a deepwater port off the coast of Louisiana. Supplemental information was furnished at our request on December 12, 2003. On January 5, 2004, we determined that the application contained all information required by the Deepwater Port Act and a Notice of Application was published in the Federal Register on January 22, 2004 (Volume 69, Number 14). The application and related documentation supplied by the applicant (except for certain protected information specified in 33 U.S.C. 1513) may be viewed in the public docket (see ADDRESSES).

According to the Deepwater Port Act of 1974, as amended (the Act; 33 U.S.C. 1501 et seq.), a deepwater port is a fixed or floating manmade structure other than a vessel, or a group of structures, located beyond State seaward boundaries and used or intended for use as a port or terminal for the transportation, storage, and further handling of oil or natural gas for transportation to any State.

A deepwater port must be licensed, and the Act provides that a license applicant submit detailed plans for its facility to the Secretary of Transportation, along with its application. The Secretary has delegated the processing of deepwater port applications to the Coast Guard and MARAD. The Act provides, “For all applications, the Secretary, in cooperation with other involved Federal agencies and departments, shall comply with the National Environmental Policy Act (NEPA) of 1969 (42 U.S.C. 4332).” This notice is intended to meet the requirements of NEPA and to provide general information about the procedure that will be followed in complying with NEPA.

Proposed Action

The Coast Guard intends to prepare an EIS consistent with the Deepwater Port Act of 1974, as amended (the Act, 33 U.S.C. 1501 et seq.) NEPA (Section 102(2)(c), as implemented by the Council on Environmental Quality (CEQ) regulations (40 CFR Parts 1500-1508), Department of Transportation (DOT) Order 5610C (Procedures for Considering Environmental Impacts), and Coast Guard Policy (Commandant's Instruction (COMDTINST) M16475.1D). The Coast Guard anticipates having several cooperating agencies in this endeavor.

NEPA requires Federal agencies to consider environmental impacts that may result from a proposed action, to inform the public of potential impacts and alternatives, and to facilitate public involvement in the assessment process. The EIS describes in detail the nature and extent of the environmental impacts of the Proposed Action and each alternative, and discusses appropriate mitigation measures for any adverse impacts. An EIS includes, among other matters, discussions of the purpose and need for the Proposed Action, a description of alternatives, a description of the affected environment, and an evaluation of the environmental impacts of the Proposed Action and alternatives.

The Gulf Landing EIS will assess the impacts of the alternatives, including but not limited to, approving, approving with conditions or not approving (No Action Alternative) the license application to construct and operate Gulf Landing, on the natural and human environment. The application plan calls for construction of a deepwater port and associated anchorages in an area situated in the Gulf of Mexico, approximately 38 miles south of Cameron, Louisiana in West Cameron Block 213, in water depth of approximately 55 feet, and adjacent to an existing shipping fairway servicing the Calcasieu River and area ports.

Gulf Landing's terminal would be capable of storing up to 180,000 cubic meters of LNG and vaporizing up to 1.2 billion cubic feet per day. Gulf Landing proposes to construct, own, and operate up to 5 pipelines that would interconnect with existing natural gas pipelines located in the Gulf of Mexico. Gas would then be delivered to the onshore national pipeline grid for delivery to any consumption market east of the Rocky Mountains.

The project would consist of two concrete gravity base structures (GBSs) housing the LNG containment facilities, along with topside unloading and vaporization structures, living quarters, and a ship berthing system.

The terminal would be able to receive LNG carriers with cargo capacities between 125,000 and 160,000 cubic meters and unload up to 135 LNG carriers per year. LNG carrier arrival frequency would be planned to match specified terminal gas delivery rates. All marine systems, communication, navigation aids and equipment necessary to conduct safe LNG carrier operations and receiving of cargo during specified atmospheric and sea states would be provided at the port.

The regasification process would consist of lifting the LNG from storage tanks, pumping the cold liquid to pipeline pressure, subsequent vaporization of the LNG across heat exchanging equipment and send-out through custody transfer metering to the gas pipeline network. No gas conditioning is required for the terminal since the incoming LNG would be pipeline quality.

Five offshore pipelines, ranging from 16 to 36 inches in diameter, would be constructed and would transverse a combined 65.7 nautical miles. Each pipeline would transport gas from the terminal to an existing transmission pipeline where it would deliver the gas to the onshore U.S. gas pipeline network. On average, Gulf Landing expects the terminal would vaporize and deliver 1 billion cubic feet per day (Bcfd) of natural gas to the pipelines, with a peak daily send out rate of 1.2 Bcfd.

As required by NEPA, the Coast Guard also will analyze the No Action Alternative as a baseline for comparing the impacts of the proposed project. For the purposes of this project, the No Action Alternative is defined as not approving the Gulf Landing LLC Deepwater Port License Application. The Coast Guard encourages public participation in the EIS process. The scoping period will begin upon publication of this notice in the Federal Register and continue for a period of thirty (30) days. As part of the scoping process, and as authorized by 40 CFR 1508.22(b)(4), the Coast Guard and MARAD will hold a public scoping meeting and informational open house in Lafayette, Louisiana, on March 16, 2004, from 1 p.m. to 5 p.m. at the Marriott Courtyard, 214 East Kaliste Saloon Road, Lafayette, LA 70505-2286, (337) 232-5005. Public comments will be accepted at that meeting and can also be submitted to the docket, as previously described under ADDRESSES. If special assistance is required to attend the meeting, such as sign language interpretation or other reasonable accommodations, contact the U.S. Coast Guard as indicated in FOR FURTHER INFORMATION CONTACT.

Following the scoping process, the Coast Guard will prepare a draft EIS. A Notice of Availability will be published in the Federal Register when the draft EIS is available. Public notices will be mailed or emailed to those who have requested a copy of the draft EIS. The public will be provided an opportunity to review the draft EIS and to offer appropriate comments.

Comments received during the draft EIS review period will be available in the public docket and made available in the final EIS. A Notice of Availability of the final EIS will also be published in the Federal Register.

Dated: February 24, 2004.
Joseph J. Angelo,
Director of Standards, Marine Safety, Security, and Environmental Protection, U.S. Coast Guard.
Raymond R. Barberesi,
Director, Office of Ports and Domestic Shipping, U.S. Maritime Administration.

[FR Doc. 04-4408 Filed 2-24-04; 2:45 pm]

BILLING CODE 4910-15-P